NUCLEAR REGULATORY COMMISSION

[Docket Nos . 50-097 and 50-157]

Notice of License Terminations for Cornell University Zero Power Reactor (ZPR) and Cornell University Triga Reactor

The U.S. Nuclear Regulatory Commission (NRC) is noticing the termination of Facility Operating License No. R-89 for the Zero Power Reactor (ZPR) and Facility Operating License No. R-80 for the TRIGA Reactor.

The NRC has terminated the license of the decommissioned ZPR and TRIGA reactor, at the Ward Center for Nuclear Studies (Ward Center) on the Cornell University campus in Cornell, New York, and has released the site for unrestricted use. The licensee requested termination of the license in a letter to NRC dated February 28, 2007. The Ward Center TRIGA Reactor and ZPR provided training for Nuclear Engineering students and various services for researchers in all departments of the College of Engineering, the College of Arts and Sciences (departments of Physics, Chemistry, Biology) and the College of Veterinary Medicine. The University permanently ceased operation of the ZPR on September 6, 1996. Cornell University stopped routine operation of the Ward Center TRIGA Reactor on June 30, 2002.

Cornell submitted the Decommissioning Plan for the Ward Center on August 22, 2003, as supplemented on May 13, September 27, October 26 and December 13, 2005, and February 13, 2006. The NRC approved the Cornell decommissioning plan by Amendment No. 8, dated June 6, 2006, and by Amendment No. 14, dated June 15, 2006, for the Cornell TRIGA reactor and Cornell ZPR facility respectively.

Cornell submitted the Final Status Survey (FSS) Plan for the Ward Center on October 10, 2006. The NRC approved the FSS Plan by letter dated October 26, 2006, noting that the survey plan was consistent with the guidance in NUREG-1757, “Consolidated Decommissioning Guidance” and the MARSSIM [Multi-Agency Radiation Survey and Site Investigation Manual] methodology.

Cornell submitted the FSS report for the former Ward Center on January 19, 2007. The NRC approved the FSS report by letter dated February 8, 2007, noting that the survey data was in accordance with the Decommissioning Plan and the FSS Plan. The report documented that compliance with the criteria in the NRC-approved decommissioning plan for both reactors had been demonstrated.

On April 27, 2007, NRC Region I issued inspection reports 05000097/2006001 and 05000157/2006001 for the research reactors at the Ward Center. The inspector interviewed licensee staff, observed work in progress, and reviewed selected documents related to the licensee's FSS measurements. The inspector concluded that measurements, sampling, and analyses performed were consistent with criteria specified in the FSS Plan. The inspector also made confirmatory measurements throughout the facility and obtained six split samples (three exterior soil samples and three slag/gravel samples from beneath the reactor pool) which were submitted to the NRC's analytical contractor. The confirmatory measurements and confirmatory sample results did not identify radioactive material in excess of the criteria specified in the FSS Plan.

Pursuant to 10 CFR 50.82(b)(6), the NRC staff has concluded that both reactors have been decommissioned in accordance with the approved decommissioning plans and that the terminal radiation surveys and associated documentation demonstrate that the facilities and site may be released in accordance with the criteria in the NRC-approved decommissioning plans. Further, on the basis of the decommissioning activities carried out by Cornell, the NRC's review of the licensee's final status survey report, the results of NRC inspections conducted at the Ward Center, and the results of NRC confirmatory surveys, the NRC has concluded that the decommissioning process is complete and the facilities and sites may be released for unrestricted use. Therefore Facility Operating License Nos. R-89 and R-80 are terminated.

For further details with respect to the proposed action, see the licensee's letter dated February 28, 2007. The above referenced documents may be examined, and/or copied for a fee, at the NRC's Public Document Room (PDR) at One White Flint North, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who have problems in accessing the documents in ADAMS should call the NRC PDR reference staff at 1-800-397-4209 or 301-415-4737 or e-mail pdr@nrc.gov.

Dated at Rockville, Maryland, this 5th day of June 2007.
For the Nuclear Regulatory Commission.
Keith I. McConnell,
Deputy Director, Decommissioning and Uranium Recovery Licensing Directorate, Division of Waste Management and Environmental Protection, Office of Federal and State Materials and Environmental Management Programs.

[FR Doc. E7-11333 Filed 6-11-07; 8:45 am]

BILLING CODE 7590-01-P